DEPARTMENT OF VETERANS AFFAIRS

Advisory Committee: National Academic Affiliations Council; Notice of Meeting

The Department of Veterans Affairs (VA) gives notice under the Federal Advisory Committee Act, 5 U.S.C. App. 2 that a meeting of the National Academic Affiliations Council will be held May 5, 2016-May 6, 2016 in the Office of Academic Affiliations (OAA) Conference Room, 1800 G Street NW., Suite 870, Washington, DC. The May 5, 2016 session will begin at 9:00 a.m. and end at 4:30 p.m. The May 6, 2016 session will begin at 9 a.m. and adjourn at 12:00 p.m. The meeting is open to the public.

The purpose of the Council is to advise the Secretary on matters affecting partnerships between VA and its academic affiliates.

On May 5, 2016, the Council will host two expert panels with representatives from veterans' service organizations and professional staff from the House and Senate Veterans' Affairs Committees. Following the expert panels, the Council will receive updates on the Graduate Medical Education (GME) expansion authorized by the 2014 Veterans Access, Choice, and Accountability (VACAA) Act; the progress towards the establishment of joint ventures with academic affiliates; the role of academic affiliates in the proposed VA tiered networks; and challenges involving the timely issuance of personal identity verification cards to trainees. In the afternoon, the Council will host a conversation with Dr. David A. Shulkin, the Under Secretary for Health. On May 6, 2016, the Council will receive updates on the Veterans Equitable Resource Allocation methodology, and VA policy guidance on Deferred Action for Childhood Arrivals. At the conclusion of the May 6, 2016 session, the VA Advisory Committee Management Office will provide an informational briefing to Council members. The Council will receive public comments from 4:15 p.m. to 4:30 p.m. on May 6, 2016 and again from 11:15 a.m. to 11:30 a.m. on May 6, 2016.

Interested persons may attend and present oral statements to the Council. A sign-in sheet for those who want to give comments will be available at the meeting. Individuals who speak are invited to submit a 1-2 page summary of their comments at the time of the meeting for inclusion in the official meeting record. Oral presentations will be limited to five minutes or less, depending on the number of participants. Interested parties may also provide written comments for review by the Council prior to the meeting or at any time, by email to, Steve.Trynosky@va.gov, or by mail to Stephen K. Trynosky JD, MPH, MMAS, Designated Federal Officer, Office of Academic Affiliations (10A2D), 810 Vermont Avenue NW., Washington, DC 20420. Any member of the public wishing to attend or seeking additional information should contact Mr. Trynosky via email or by phone at (202) 461-6723. Because the meeting will be in a Government building, anyone attending must be prepared to show a valid photo I.D. Please allow 15 minutes before the meeting begins for this process.

Dated: April 19, 2016.
Jelessa Burney,
Federal Advisory Committee Management Officer.

[FR Doc. 2016-09378 Filed 4-21-16; 8:45 am]

BILLING CODE P